DEPARTMENT OF HEALTH AND HUMAN SERVICES

National Institutes of Health

Center for Scientific Review; Amended Notice of Meeting

Notice is hereby given of a change in the meeting of the Center for Scientific Review Special Emphasis Panel, June 22, 2021, 10:00 a.m. to June 22, 2021, 08:00 p.m., National Institutes of Health, Rockledge II, 6701 Rockledge Drive, Bethesda, MD 20892 which was published in the Federal Register on May 18, 2021, 86 FR 26931.

Lawrence Kagemann, Ph.D., Larry.Kagemann@Nih.Gov, (301) 480-6849, will be the new Contact person, replacing Inna Gorshkova as Scientific Review Officer. The meeting date and location remain the same. The meeting is closed to the public.

David W. Freeman,
Program Analyst, Office of Federal Advisory Committee Policy.

[FR Doc. 2021-11879 Filed 6-4-21; 8:45 am]

BILLING CODE 4140-01-P